DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of September, 2001.

In order for an affirmative determination to be made and a certification of eligibility to apply for worker adjustment assistance to be issued, each of the group eligibility requirements of section 222 of the Act must be met.

(1) That a significant number or proportion of the workers in the workers' firm, or an appropriate subdivision thereof, have become totally or partially separated,

(2) that sales or production, or both, of the firm or subdivision have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,163; Bridgestone/Firestone Tire & Rubber Co., Inc. Decatur, IL

TA-W-39,453; Arnold Engineering Co., Ferrite Products Div. Sevierville, TN

TA-W-38,997; Emsig Manufacturing Corp., Villas, NJ

TA-W-39,618; Belding Hausman, Inc., Bogor City, NC

In the following cases, the investigation revealed that the criteria for eligibility have not been met for the reasons specified.

Increased imports did not contribute importantly to worker separations at the firm.

TA-W-39,617; Silgan Plastic, Fairfield, OH

TA-W-38,967; Conexant, Inc., TTM Module System, El Paso, TX

TA-W-39,574; SGL Carbon Group, Morganton, NC

TA-W-38,670; Mayfiar Creamery, Somerset, PA

Affirmative Determinations for Worker Adjustment Assistance

The following certifications have been issued; the date following the company name and location of each determination references the impact date for all workers of such determination.

TA-W-39,233; Fansteel Intercast, a/k/a Fansteel/Escast Co., Addison, IL: April 24, 2000.

TA-W-40,025; The Bramton Co., Retail Products Group, Dallas, TX: August 20, 2000.

TA-W-39,225; Panther Pacific, Lewisville, TX: April 16, 2000.

TA-W-39,455; Rivoli Mills, Jasper, TN: May 29, 2000.

TA-W-39,645; S.D. Warren, d/b/a Sappi Fine Paper, North America Mobile Operations, Mobile, AL: June 26, 2000.

TA-W-39,618; Winer Industries, Dallas, TX: June 27, 2000.

TA-W-39,723; & A, B; Springford Industries, Spring City, PA, Leesport, PA and Boyertown, PA: July 19, 2000.

TA-W-39,722; Rexnord Corp., Indianapolis, IN: August 11, 2000.

TA-W-39,376; Ocello, Inc., Richland, PA: May 17, 2000.

TA-W-39,577; Et Al Group, Inc., New York, NY: June 22, 2000.

TA-W-39,133; Ansell Protective Products, Tarboro, NC: April 12, 2000.

TA-W-39,777; & A; Allison Manufacturing, Brownsville TX and McAllen, TX: August 31, 2001.

TA-W-39,811; Howes Leather Corp., 500 Cooper Road & 101 Meadow Street, Curwensville, PA: July 30, 2000.

TA-W-39,280; Lear Corp., Interior Systems Div., Lewistown, PA: May 2, 2000.

TA-W-39,328; Komatsu Mining Systems, Inc., Peoria Operations, Peoria, IL: May 9, 2000.

TA-W-39,502; Recmix of Pennsylvania, Canonsburg, PA: June 12, 2000.

TA-W-39,620; Perry Manufacturing Co., Mount Airy, NC: July 2, 2000.

TA-W-39,323; Atlantic Wire and Cable Corp., College Point, NY: May 11, 2000.

Also, pursuant to title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of September, 2001.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increases imports contributed importantly to such workers' separations or threat of separation and to the decline in sales or production of such firm or subdivision; or

(4) that there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05083; Ben Mer Manufacturing, Rochester, NY

NAFTA-TAA-05095; Rexnord Corp., Roller Chain Div., Indianapolis, IN

NAFTA-TAA-04700; Conexant, Inc., TTM Module Systems, El Paso, TX

NAFTA-TAA-05228; Realco Diversified, Inc., Meadville, PA

NAFTA-TAA-04900; Bangor Industries, Inc., Bangor, MI

NAFTA-TAA-05306; Alcatel Submarine Networks, Inc., Portland, OR

NAFTA-TAA-04946; Honeywell, Burkesville Div., Burkesville, KY

NAFTA-TAA-05232; Asarco, El Paso, TX

NAFTA-TAA-04941; Ocello, Inc., Richland, PA

The workers firm does not produce an article as required for certification under Section 222 of the Trade Act of 1974.

NAFTA-TAA-05150; Niedfeldt Trucking Services, LaCrosse, WI

NAFTA-TAA-05311; GE Capitol IT Solutions, Managed Services, Erlanger, KY

Affirmative Determinations NAFTA-TAA

NAFTA-TAA-05230; Aquatech, Inc., Cookeville, TN: August 13, 2000.

NAFTA-TAA-05145; KMA Manufacturing, Inc., Livingston, TN: July 27, 2000.

NAFTA-TAA-05287; UBI Soft Entertainment, Novato, CA: August 17, 2000.

NAFTA-TAA-05207; Bonifay Manufacturing, Inc., Bonifay, FL: August

NAFTA-TAA-05190; Sequa Corp., Men's Apparel Group, Athens, GA: August 10, 2000.

NAFTA-TAA-04897; Komatsu Mining Systems, Inc., Peoria Operations, Peoria, IL: May 2, 2000.

NAFTA-TAA-04898; Fansteel Intercast, a/k/a Fansteel/Escast Co., Addison, IL: May 16, 2000.

NAFTA-TAA-05255; Interroll Corp., Wilmington, NC: August 20, 2000.

NAFTA-TAA-05148; PasticSource, Inc., Kelly Staff Leasing, El Paso, TX: July 26, 2000.

NAFTA-TAA-05089; Malbon, Inc., Hiram, GA: July 16, 2000.

NAFTA-TAA-04434; Precise Cutting, Marking & Grading, Los Angeles, CA: December 20, 1999.

NAFTA-TAA-05036; Andrew Corp., RF Subsystems Group, Orland Park, IL: June 27, 2000.

NAFTA-TAA-04917; Pratt and Whitney HAC, Grand Prairie, TX: May 29, 2000.

NAFTA-TAA-05266; UniFirst Corp., Wilburton, OK: August 24, 2000.

I hereby certify that the aforementioned deteminations were issued during the month of September, 2001. Copies of these determinations are available for inspection in Room C-5311, U.S. Department of Labor, 200 Constitution Avenue, NW., Washington, DC 20210 during normal business hours or will be mailed to persons who write to the above address.

Dated: September 24, 2001.
Edward A. Tomchick,
Director, Division of Trade Adjustment Assistance.

[FR Doc. 01-25467 Filed 10-10-01; 8:45 am]

BILLING CODE 4510-30-M